DEPARTMENT OF HOUSING AND URBAN DEVELOPMENT

[Docket No. FR-5550-D-03]

Redelegation of Authority for Office of Field Policy and Management

AGENCY: Office of Field Policy and Management, HUD.

ACTION: Notice of Redelegation of Authority.

SUMMARY: Through this notice, the Assistant Deputy Secretary for Field Policy and Management redelegates certain operational management authority to the HUD Regional Administrators located in Region I (Boston, MA); Region II (New York, NY); Region III (Philadelphia, PA); Region IV (Atlanta, GA); Region V (Chicago, IL), Region VI (Fort Worth, TX), Region VII (Kansas City, KS); Region VIII (Denver, CO); Region IX (San Francisco, CA); and Region X (Seattle, WA).

DATES: Effective Date: October 9, 2012.

FOR FURTHER INFORMATION CONTACT: Lawrence D. Reynolds, Assistant General Counsel, Administrative Law Division, Department of Housing and Urban Development, Room 9262, 451 7th Street SW., Washington, DC 20410-0500, telephone number, 202-402-3502 (this is not a toll-free number). This number may be accessed through TTY by calling the toll-free Federal Relay Service at 800-877-8339.

SUPPLEMENTARY INFORMATION: By separate notice published in today's Federal Register, the Secretary of HUD delegates to the Assistant Deputy Secretary for Field Policy and Management authority for the management and oversight of the Department's field operations, and further authorizes the Assistant Deputy Secretary to redelegate such authority. Through this notice, the Assistant Deputy Secretary for Field Policy and Management redelegates certain operational management authority to the HUD Regional Administrators. On March 26, 2002 (67 FR 13791), and April 5, 2007 (72 FR 16809), HUD published Delegations of Authority from the Secretary to the Regional Directors/Administrators of Field Policy and Management. This notice supersedes these and all prior redelegations to the HUD Regional Administrators.

Section I: Authority Redelegated

A. Cross-Program Coordination. Each Regional Administrator is redelegated the following duties:

1. Develop and implement place-based Management Plans in consultation with field program directors;

2. Coordinate cross-program projects and Field Office Quality Management Reviews;

3. Prepare briefing papers and hot issue documents;

4. Lead disaster relief efforts;

5. Lead problem-solving teams to address significant issues involving internal and external stakeholders and program areas;

6. Convene on-site program teams (i.e., CPD, OGC, FHEO), as necessary and in consultation with field program directors to review proposed, major projects or initiatives for place-based impact;

7. Assist state and local housing officials in assessing the impact of housing foreclosures;

8. Convene place-based teams, as necessary and in consultation with field program directors, to review Consolidated Plans during the 45-day review period;

9. Provide comments to Public Indian Housing (PIH) Field Directors on public housing disposal and/or demolition applications;

10. Review with other program leaders the status of the HUD-VASH program to maximize utilization; and

11. Consult with program directors regarding implementation of departmental management goals, secretarial and Presidential initiatives, and Annual Performance Plan commitments.

Regional Administrators can request review by Headquarters of decisions made by program directors. Where the Regional Administrator and relevant program director disagree on a major program decision, the Regional Administrator may report the disagreement to the Assistant Deputy Secretary, Field Policy and Management, who may then raise the matter with the relevant Assistant Secretary or equivalent. The relevant Assistant Secretary or equivalent makes the final determination, subject to review by the Deputy Secretary, as necessary.

B. Administrative Management. Each Regional Administrator is delegated the following administrative duties:

1. Determine official office hours and opening, closing, and emergency procedures;

2. Authorize excused absence by administrative directive for up to three days for office closure or group dismissal for severe environmental disturbance or other managerial reasons (e.g., loss of heating or air conditioning) in field office location; and

3. Regional Administrators may request a waiver of specific directives and handbook provisions pertaining to programs in the Offices of Housing, Public and Indian Housing, Community Planning and Development, and Fair Housing and Equal Opportunity. Waiver is not authorized for the HUD Litigation Handbook and regulations, or those departmental directives and handbook provisions mandated by or directly predicated on a statute, executive order, or regulation. Waiver requests by the Regional Administrator will be forwarded to the Assistant Deputy Secretary, the Office of Field Policy and Management, who will forward the requests to the respective program Assistant Secretary for final decision. All waivers requests must be in writing and specify the grounds for requesting the waiver. Regional Administrators will be notified in writing of the program Assistant Secretary's decision, through the Office of Field Policy and Management leadership. Only the program Assistant Secretary may grant waivers or make a specific delegation of waiver authority.

C. Representation. Each Regional Administrator is redelegated the following duties:

1. Serve as the lead point of contact for nontribal local elected or appointed officials;

2. Serve as one of the principal points of contact with industry groups with the support of and in consultation with field program directors;

3. Manage and conduct labor/management relations;

4. Manage all inquiries and correspondence, including Freedom of Information Act (5 U.S.C. 552, as amended) requests and Congressional and intergovernmental communications, in consultation with field program directors;

5. Respond to all media inquiries in conjunction with Headquarters. Office of Public Affairs and field program directors;

6. Administer the local office's Web page and Internet sources;

7. Monitor and evaluate customer service; and

8. Enter into cosponsorship agreements, with the concurrence of the General Counsel and the relevant program Assistant Secretary or equivalent.

Section II: Authority To Redelegate

Except for those authorities specifically excluded in Section III of this notice, this authority may be redelegated, as appropriate, from Regional Administrators to Field Office Directors within the respective jurisdictions.

Section III: Authority Non-Redelegable

The following authorities may not be redelegated from the Regional Administrators to the Field Office Directors or to any other employee:

1. The authority to enter into cosponsorship agreements;

2. The authority to request waivers as provided by section I.B.3. above; and

3. The authority to sign local, area-wide, or center-wide negotiated impact and implementation (I&I) or memorandum of understanding (MOA) agreements with unions representing smaller units consisting of either Headquarters and/or Field employees on issues confined to a single program area and within the Regional Administrators' own budget authority, including the resolution of unfair labor practice charges and bargaining impasses.

Section IV: Delegations Superseded

This notice supersedes all prior delegations of authority to the Regional Directors/Administrators from the Secretary of HUD or the Assistant Deputy Secretary, Field Policy and Management.

Authority: Section 7(d)(q) of the Department of HUD Act, 42 U.S.C. 3535(d).

Dated: October 9, 2012.
Patricia A. Hoban-Moore,
Assistant Deputy Secretary.

[FR Doc. 2012-25711 Filed 10-18-12; 8:45 am]

BILLING CODE 4210-67-P